DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Patient Medical Record—VA” (24VA19) as set forth in the Federal Register 74 FR 60040. VA is amending the system by revising the System Number, Categories of Individuals Covered by the System, Categories of Records in the System, and Routine Uses of Records Maintained in the System.

DATES: Comments on the amendment of this system of records must be received no later than November 30, 2012. If no public comment is received, the amended system will become effective November 30, 2012.

ADDRESSES: Written comments may be submitted through www.regulations.gov; by mail or hand-delivery to Director, Regulations Management (02Reg), Department of Veterans Affairs, 810 Vermont Avenue NW., Room 1068, Washington, DC 20420; or by fax to (202) 273-9026. Comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System (FDMS) at www.regulations.gov.

FOR FURTHER INFORMATION CONTACT: Veterans Health Administration (VHA) Privacy Act Officer, Department of Veterans Affairs, 810 Vermont Avenue NW., Washington, DC 20420; telephone (704) 245-2492.

SUPPLEMENTARY INFORMATION: The system number is changed from 24VA19 to 24VA10P2 to reflect the current organizational alignment.

Categories of Individuals Covered by the System is being amended to add a new section 8 entitled Caregivers. Categories of Records in the System is being amended to add Bed Management Solution (BMS), and certain clinically oriented information associated with My HealtheVet such as secure messages.

In addition, routine use fifty-one (51) is amended to add the words “health plan” and “organizations.” Routine use fifty-two (52) duplicates routine use one (1) and will therefore be replaced with a new routine use, which provides that disclosure of identifying information, including name, address, and date of birth, as needed to verify the identity of an individual or to facilitate delivery of benefits or services, may be made to travel agencies, transportation carriers, or others authorized to act on behalf of VA to provide or arrange travel for examination, treatment, or care, or in connection with vocational rehabilitation or counseling services.

Routine use fifty-three (53) is added to state that VA may disclose relevant information, including but not limited to, patient name, address, and social security number, to a state prescription drug monitoring program (PDMP), or similar program, for the purpose of submitting to or receiving from the program information regarding prescriptions to an individual for controlled substances, as required under the applicable state law. This routine use will allow VA to participate in a PDMP.

Routine use fifty-four (54) is added to state that VA may disclose relevant health information to the Centers for Medicare and Medicaid Services (CMS) and/or their designee to evaluate compliance with Medicare or Medicaid health care standards. This routine use permits disclosure to CMS when determining any deficiencies and/or severity of deficiencies for health care oversight activities.

The Report of Intent to Amend a System of Records Notice and an advance copy of the system notice have been sent to the appropriate Congressional committees and to the Director of the Office of Management and Budget (OMB) as required by the Privacy Act, 5 U.S.C. 552a(r), and guidelines issued by OMB, 65 FR 77677 (Dec. 12, 2000).

Approved: October 1, 2012.
John R. Gingrich,
Chief of Staff, Department of Veterans Affairs.

24VA10P2

SYSTEM NAME:

Patient Medical Record—VA

CATEGORIES OF INDIVIDUALS COVERED BY THE SYSTEM:

* * * * *

(8): Caregivers.

CATEGORIES OF RECORDS IN THE SYSTEM:

* * * * *

(iii) Subsidiary record information (e.g., Bed Management Solution (BMS), tumor registry, certain clinically oriented information associated with My HealtheVet such as secure messages, dental, pharmacy, nuclear medicine, clinical laboratory, radiology, and patient scheduling information).

ROUTINE USES OF RECORDS MAINTAINED IN THE SYSTEM, INCLUDING CATEGORIES OF USERS AND THE PURPOSES OF SUCH USES:

* * * * *

51. VA may disclose relevant information to health plans, quality review and/or peer review organizations in connection with the audit of claims or other review activities to determine quality of care or compliance with professionally accepted claims processing standards.

52. VA may disclose identifying information, including name, address, and date of birth, as needed to verify the identity of an individual or to facilitate delivery of benefits or services to travel agencies, transportation carriers, or others authorized to act on behalf of the Department of Veteran Affairs (VA) to provide or arrange travel for examination, treatment, or care, or in connection with vocational rehabilitation or counseling services.

53. VA may disclose relevant information, including but not limited to, patient name, address, and social security number, to a state prescription drug monitoring program (PDMP), or similar program, for the purpose of submitting to or receiving from the program information regarding prescriptions to an individual for controlled substances, as required under the applicable state law.

54. VA may disclose relevant health information to the Centers for Medicare and Medicaid Services (CMS) and/or their designee to evaluate compliance with Medicare or Medicaid health care standards.

[FR Doc. 2012-26801 Filed 10-30-12; 8:45 am]

BILLING CODE P